DEPARTMENT OF HOMELAND SECURITY

Coast Guard

33 CFR Part 165

[Docket No. USCG-2018-0265]

Safety Zones; Annual Events in the Captain of the Port Detroit Zone

AGENCY: Coast Guard, DHS.

ACTION: Notice of enforcement of regulation.

SUMMARY: The Coast Guard will enforce various safety zones for annual marine events in the Captain of the Port Detroit zone from 8:30 p.m. on May 27, 2018 through 10:30 p.m. on September 2, 2018. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port or his designated representative.

DATES: The regulations in 33 CFR 165.941 will be enforced at various dates and times between 8:30 p.m. on May 27, 2018 through 10:30 p.m. on September 2, 2018.

FOR FURTHER INFORMATION CONTACT: If you have questions on this document, call or email Tracy Girard, Prevention, Sector Detroit, Coast Guard; telephone (313) 568-9564, or email Tracy.M.Girard@uscg.mil.

SUPPLEMENTARY INFORMATION: The Coast Guard will enforce the safety zones listed in 33 CFR 165.941, Safety Zones; Annual Events in the Captain of the Port Detroit Zone, at the following dates and times for the following events:

(1) Catawba Island Club Fireworks, Catawba Island, OH. The safety zone listed in § 165.941(a)(56) will be enforced from 8:30 p.m. to 9:30 p.m. on May 27, 2018.

(2) Ford (formerly Target) Fireworks, Detroit, MI. The first safety zone, listed in § 165.941(a)(50)(i)(A), will be enforced from 8 a.m. on June 22, 2018 to 8 p.m. on June 25, 2018. In the case of inclement weather on the scheduled day, this safety zone will be enforced on June 26, 2018 until 11:59 p.m. The second safety zone, listed in § 165.941(a)(50)(i)(B), will be enforced from 7 p.m. to 11:55 p.m. on June 25, 2018. The third safety zone listed in § 165.941(a)(50)(i)(C), will be enforced from 6 p.m. to 11:59 p.m. on June 25, 2018.

(3) Harbor Beach Fireworks, Harbor Beach, MI. The safety zone listed in the § 165.941(a)(8) will be enforced from 9:45 p.m. to 11 p.m. on July 14, 2018. In the case of inclement weather on July 14, 2018, this safety zone will be enforced from 9:45 p.m. to 11 p.m. on July 15, 2018.

(4) Bay City Fireworks Festival, Bay City, MI. The safety zone listed in § 165.941(a)(53), will be enforced from 10 p.m. to 10:55 p.m. on July 5, July 6, and July 7, 2018. In the case of inclement weather on any scheduled day, this safety zone will be enforced from 10 p.m. to 10:55 p.m. on July 8, 2018.

(5) Lexington Independence Festival Fireworks, Lexington, MI. The safety zone listed in § 165.941(a)(42), will be enforced from 10 p.m. to 10:30 p.m. on July 6, 2018. In the case of inclement weather on July 6, 2018, this safety zone will be enforced from 10 p.m. to 10:30 p.m. on July 7, 2018.

(6) Catawba Island Club Fireworks, Catawba Island, OH. The safety zone listed in § 165.941(a)(21) will be enforced from 9 p.m. to 10 p.m. on July 3, 2018.

(7) Harrisville Fireworks, Harrisville, MI. The safety zone listed in § 165.941(a)(7), will be enforced from 10 p.m. to 11 p.m. on July 7, 2018. In the case of inclement weather on July 7, 2018, this safety zone will be enforced from 10 p.m. to 10:30 p.m. on July 8, 2018.

(8) Red, White and Blues Bang Fireworks, Huron, OH. The safety zone listed in § 165.941(a)(22) will be enforced between from 10 p.m. to 10:45 p.m. on July 7, 2018. In the case of inclement weather on July 7, 2018, this safety zone will be enforced from 10 p.m. to 10:45 p.m. on July 8, 2018.

(9) Port Sanilac Fireworks, Port Sanilac, MI. The safety zone listed in § 165.941(a)(38) will be enforced from 10 p.m. to 11 p.m. on July 7, 2018. In the case of inclement weather on July 7, 2018, this safety zone will be enforced from 10 p.m. to 10:45 p.m. on July 8, 2018.

(10) Oscoda Township Fireworks, Oscoda, MI. The safety zone listed in § 165.941(a)(32) will be enforced from 10 p.m. to 10:30 p.m. on July 4, 2018. In the case of inclement weather on July 4, 2018, this safety zone will be enforced from 10 p.m. to 10:30 p.m. on July 5, 2018.

(11) Lakeside July 4th Fireworks, Lakeside, OH. The safety zone listed in § 165.941(a)(20) will be enforced from 9:20 p.m. to 10:10 p.m. on July 4, 2018. In the case of inclement weather on July 4, 2018, this safety zone will be enforced from 9:20 p.m. to 10:10 p.m. on July 5, 2018.

(12) Grosse Pointe Yacht Club 4th of July Fireworks, Grosse Pointe Shores, MI. The safety zone listed in § 165.941(a)(41) will be enforced from 10 p.m. to 10:30 p.m. on July 4, 2018. In the case of inclement weather on July 4, 2018, this safety zone will be enforced from 10 p.m. to 10:30 p.m. on July 5, 2018.

(13) Belle Maer Harbor 4th of July Fireworks, Harrison Township, MI. The safety zone listed in § 165.941(a)(46) will be enforced from 10 p.m. to 10:30 p.m. on July 4, 2018. In the case of inclement weather on July 4, 2018, this safety zone will be enforced from 10 p.m. to 10:30 p.m. on July 5, 2018.

(14) Port Austin Fireworks, Port Austin, MI. The safety zone listed in § 165.941(a)(33), will be enforced from 10 p.m. to 10:30 p.m. on July 4, 2018. In the case of inclement weather on July 4, 2018, this safety zone will be enforced from 10 p.m. to 10:30 p.m. on July 5, 2018.

(15) City of St. Clair Fireworks, St. Clair, MI. The safety zone listed in § 165.941(a)(31) will be enforced from 10 p.m. to 10:45 p.m. on July 4, 2018. In the case of inclement weather on July 4, 2018, this safety zone will be enforced from 10 p.m. to 10:45 p.m. on July 5, 2018.

(16) Tawas City 4th of July Fireworks, Tawas City, MI. The safety zone listed in § 165.941(a)(47) will be enforced from 10 p.m. to 11 p.m. on July 4, 2018. In the case of inclement weather on July 4, 2018, this safety zone will be enforced from 10 p.m. to 11 p.m. on July 5, 2018.

(17) Huron River fest Fireworks, Huron, OH. The safety zone listed in § 165.941(a)(23) will be enforced between from 9:45 p.m. until 10:30 p.m. on July 13, 2018. In the case of inclement weather on July 13, 2018, this safety zone will be enforced from 9:45 p.m. to 10:30 p.m. on July 14, 2018.

(18) Au Gres City Fireworks, Au Gres, MI. The safety zone listed in § 165.941(a)(3) will be enforced from 10 p.m. to 10:45 p.m. on June 30, 2018. In the case of inclement weather on June 30, 2018, this safety zone will be enforced from 10 p.m. to 10:45 p.m. on July 1, 2018.

(19) Catawba Island Club Fireworks, Catawba Island, OH. The safety zone listed in § 165.941(a)(28) will be enforced from 8:30 p.m. to 9:30 p.m. on September 2, 2018.

(20) Lakeside Labor Day Fireworks, Lakeside, OH. The safety zone listed in § 165.941(a)(27) will be enforced from 9 p.m. to 9:50 p.m. on September 1, 2018. In the case of inclement weather on September 1, 2018, this safety zone will be enforced from 9 p.m. to 9:50 p.m. on September 2, 2018.

(21) Trenton Fireworks, Trenton, MI. The safety zone listed in § 165.941(a)(45) will be enforced from 10 p.m. to 10:30 p.m. on July 4, 2018.

(22) Put-In-Bay Fourth of July Fireworks, Put-In-Bay, OH. The safety zone listed in § 165.941(a)(5) will be enforced from 9 p.m. to 10:30 p.m. on July 4, 2018.

(23) Caseville Fireworks, Caseville, MI. The safety zone listed in the § 165.941(a)(36) will be enforced from 9:45 p.m. to 10:30 p.m. on July 3, 2018.

(24) Ecorse Fireworks, Ecorse, MI. The safety zone listed in the § 165.941(a)(43) will be enforced from 9:30 p.m. to 10:30 p.m. on July 7, 2018. In the case of inclement weather on July 7, 2018, this safety zone will be enforced from 9:30 p.m. to 10:30 p.m. on July 8, 2018.

Under the provisions of § 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM or by calling (313)568-9564. The Coast Guard will give notice to the public via Local Notice to Mariners and VHF radio broadcasts that the regulation is in effect.

This document is issued under authority of § 165.941 and 5 U.S.C. 552(a). If the Captain of the Port determines that any of these safety zones need not be enforced for the full duration stated in this document, he may suspend such enforcement and notify the public of the suspension via a Broadcast Notice to Mariners.

Dated: May 4, 2018.
Jeffrey W. Novak,
Captain, U.S. Coast Guard, Captain of the Port Detroit.

[FR Doc. 2018-09932 Filed 5-9-18; 8:45 am]

BILLING CODE 9110-04-P